NUCLEAR REGULATORY COMMISSION

[Docket Nos. 50-267, 50-270, and 50-287]

Duke Energy Corporation; Notice of Withdrawal of Application for Amendment to Facility Operating License

The U.S. Nuclear Regulatory Commission (the Commission) has granted the request of Duke Energy Corporation (the licensee) to withdraw its December 20, 2001, application for proposed amendment to Renewed Facility Operating License No. DPR-38, DPR-47, and DPR-55 for the Oconee Nuclear Station, Units 1, 2, and 3, located in Seneca, South Carolina.

The proposed amendment would have revised the licensing basis associated with the failure of non-Category I (non-seismic) piping in the auxiliary building.

The Commission had previously issued a Notice of Consideration of Issuance of Amendment published in the Federal Register on January 22, 2002 (67 FR 2922). However, by letter dated April 23, 2002, the licensee withdrew the proposed change.

For further details with respect to this action, see the application for amendment dated December 20, 2001, and the licensee's letter dated April 23, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 18th day of September 2002.
For the Nuclear Regulatory Commission.
Leonard N. Olshan,
Project Manager, Section 1, Project Directorate II, Division of Licensing Project Management, Office of Nuclear Reactor Regulation.

[FR Doc. 02-24222 Filed 9-23-02; 8:45 am]

BILLING CODE 7590-01-P